FEDERAL COMMUNICATIONS COMMISSION

47 CFR Part 90

[WT Docket No. 01-146; RM-9966; FCC 03-35]

Applications and Licensing of Low Power Operations in the Private Land Mobile Radio 450-470 MHz Band; Corrections

AGENCY: Federal Communications Commission.

ACTION: Correcting amendments.

SUMMARY: The Federal Communications Commission published a document in the Federal Register on April 21, 2003 (68 FR 19444), revising Commission rules. That document inadvertently failed to update the station class for frequency 464.575 MHz listed in § 90.35(b)(3) and incorrectly listed a cross-reference in § 90.267(e)(3). This document corrects the final regulations by revising these sections.

DATES: Effective on January 29, 2004.

FOR FURTHER INFORMATION CONTACT: Brian Marenco, Acting Associate Division Chief, Public Safety and Critical Infrastructure Division at (202) 418-0838.

SUPPLEMENTARY INFORMATION: This is a summary of the FCC's Erratum, FCC 03-35, released on December 23, 2003.

This is the second set of corrections. The first set of corrections was published in the Federal Register on September 25, 2003 (68 FR 55319). This document augments the corrections which were published in the Federal Register on September 25, 2003 (68 FR 55319).

In the FR Doc published in the Federal Register on April 21, 2003 (68 FR 19444), make the following corrections.

List of Subjects in 47 CFR Part 90

FCC equipment, Radio, Reporting and recordkeeping requirements.

Accordingly, 47 CFR part 90 is corrected by making the following correcting amendments:

PART 90—PRIVATE LAND MOBILE RADIO SERVICE

1. The authority citation for part 90 continues to read as follows:

Authority: Sections 4(i), 11, 303(g), 303(r) and 332(c)(7) of the Communications Act of 1934, as amended, 47 U.S.C. 154(i), 161, 303(g), 303(r), 332(c)(7).

2. In § 90.35, amend paragraph (b)(3) by adding a frequency to the table to read as follows:

§ 90.35 Industrial/Business Pool.

* * * * *

(b) * * *

(3) * * *

Industrial/Business Pool Frequency Table
Frequency or band | Class of station(s) | Limitations | Coordinator
* * * * * * *
464.575 | Base or mobile | 62 |
* * * * * * *

3. Revise paragraph (e)(3) of § 90.267 to read as follows:

§ 90.267 Assignment and use of frequencies in the 450-470 MHz band for low power use.

* * * * *

(e) * * *

(3) The frequencies in Group C that are subject to the provisions of § 90.35(c)(67) will not be available for itinerant use until the end of the freeze on the filing of high power applications for 12.5 kHz offset channels in the 460-470 MHz band.

* * * * *

Federal Communications Commission.
Marlene H. Dortch,
Secretary.

[FR Doc. 04-1936 Filed 1-28-04; 8:45 am]

BILLING CODE 6712-01-P